DEPARTMENT OF EDUCATION

[CFDA Nos: 84.015A, 84.015B, 84.220A, 84.229A, and 84.269A]

Office of Postsecondary Education, International Education Programs Service

ACTION: Notice Announcing the Technical Assistance Workshop for Fiscal Year (FY) 2009 Title VI Institute for International Public Policy Program and FY 2010 Title VI National Resource Centers Program, Foreign Language and Area Studies Fellowships Program, Centers for International Business Education Program, and Language Resource Centers Program.

SUMMARY: The Department expects to hold competitions for grants under the above-referenced Title VI programs for FY 2009 and FY 2010. This notice provides information about a two-day technical assistance workshop to assist institutions of higher education interested in preparing grant applications for new awards under these programs. The International Education Programs Service staff, other Department staff, as well as guest speakers, will present information about the purpose of the Title VI programs, the selection criteria used to evaluate grant applications, data collection and performance reporting requirements, evaluation, the peer review process, submitting applications on the Grants.gov Apply site, guidance for preparing the application narrative and budget, competition priorities, if any, and other technical assistance topics.

Although the Department has not yet announced application deadline dates in the Federal Register, the Department is conducting this workshop to provide potential applicants with information they will need for preparing grant applications for competitions we expect to conduct for FY 2009 and FY 2010 new awards. Specific requirements for these competitions will be published in separate Federal Register notices. This notice announces the technical assistance workshop only.

FOR FURTHER INFORMATION CONTACT: Carla White, U.S. Department of Education, 1990 K Street, NW., Washington, DC 20006-8521. Telephone: (202) 502-7631. E-mail: carla.white@ed.gov.

If you use a telecommunications device for the deaf (TDD), you may call the Federal Relay Service (FRS) at 1-800-877-8339.

Individuals with disabilities may obtain this document in an alternative format (e.g., Braille, large print, audio tape, or computer diskette) on request to the contact person listed in this section.

SUPPLEMENTARY INFORMATION: The Technical Assistance Workshop will be held at the following location: Crystal Gateway Marriott, 1700 Jefferson Davis Highway, Arlington, VA 22202, Telephone: (800) 228-9290, Reservation Code: DOEO.

The Technical Assistance Workshop will be held February 2-3, 2009, from 8 a.m. to 5 p.m. Registration packets will be available Sunday, February 1, from 4 p.m.-6 p.m., and on Monday, February 2, from 8 a.m.-9 a.m. A registration fee is not required for this workshop; however, space is limited. Attendees are responsible for making their own travel and hotel reservations. Please be advised that Title VI funds may not be used to attend this workshop. We encourage those who will be writing the grant application, collecting data for the application and performance reports, as well as those who will be submitting applications using the Grants.gov Apply site, to attend the workshop. We also encourage attendance from persons responsible for specific program areas such as evaluation, language assessment, outreach, and fellowships administration.

The full agenda for this workshop will be posted at a later date at the following Web site: http://www.ed.gov/ope/iegps.

Assistance to Individuals With Disabilities Attending the Technical Assistance Workshop

The technical assistance workshop site is accessible to individuals with disabilities. If you need an auxiliary aid or service to participate in the workshop (e.g., interpreting service, assistive listening device, or materials in an alternative format), notify the contact person listed under FOR FURTHER INFORMATION CONTACT at least two weeks before the scheduled workshop date. Although we will attempt to meet a request received after that date, we may not be able to make available the requested auxiliary aid or service because of insufficient time to arrange it.

Electronic Access to This Document: You may view this document, as well as all other documents of this Department published in the Federal Register, in text or Adobe Portable Document Format (PDF) on the Internet at the following site: http://www.ed.gov/news/fedregister.

To use PDF, you must have Adobe Acrobat Reader, which is available free at this site. If you have any questions about using PDF, call the U.S. Government Printing Office (GPO), toll free, at 1-888-293-6498; or, in the Washington, DC area at (202) 512-1530.

Note: The official version of this document is the document published in the Federal Register. Free Internet access to the official edition of the Federal Register and the Code of Federal Regulations is available on GPO Access at: http://www.gpoaccess.gov/nara/index.html.

Program Authority: 20 U.S.C. 1121-1123(c), 1130-1131.

Dated: October 29, 2008.
Cheryl A. Oldham,
Acting Assistant Secretary for Postsecondary Education.

[FR Doc. E8-26164 Filed 10-31-08; 8:45 am]

BILLING CODE 4000-01-P